SURFACE TRANSPORTATION BOARD

[Docket No. AB 1266 (Sub-No. 1X)]

Canonie Atlantic Co.—Abandonment Exemption—in Norfolk, Va.

On December 8, 2020, Canonie Atlantic Co. (CAC), a Class III rail carrier, filed with the Surface Transportation Board (Board) a petition under 49 U.S.C. 10502 for exemption from the prior approval requirements of 49 U.S.C. 10903 to abandon an approximately 1.4-mile rail line in Norfolk, Va., between milepost 100.7 at North Junction and milepost 102.1 at St. Julian (the Line). The Line traverses U.S. Postal Service Zip Code 23504.

CAC states it seeks to abandon the Line because it intends to sell the Line to the Virginia Department of Rail and Public Transportation (DRPT) for public use—specifically, commuter rail transportation. (Pet. 1.) CAC states that no freight traffic has moved over the Line in over two years and that the only recent use of the Line has been to support intercity passenger service by the National Railroad Passenger Corporation (Amtrak). (Id. at 1, 4.) ¹

¹ In a related docket, a verified notice of exemption has been filed for BCR to discontinue its operations over the Line, as well as over an adjacent line owned by Norfolk Southern Railway Company between milepost 100.7 and milepost 100.3. See Cassatt Mgmt., LLC—Discontinuance of Serv. Exemption—in Norfolk, Va., Docket No. AB 1267 (Sub-No. 1X).

In addition to an exemption from 49 U.S.C. 10903, CAC also seeks an exemption from the offer of financial assistance procedures of 49 U.S.C. 10904. In support, CAC argues that there is no overriding public need for freight rail service on the Line and that the right-of-way is needed for a valid public purpose, i.e., DRPT's plans to utilize the Line to facilitate Amtrak passenger rail service. (Pet. 6.) This request will be addressed in the final decision.

CAC states that, based on the information in its possession, the Line does not contain federally granted rights-of-way. Any documentation in CAC's possession will be made available to those requesting it.

The interest of railroad employees will be protected by the conditions set forth in Oregon Short Line Railroad—Abandonment Portion Goshen Branch between Firth & Ammon, in Bingham & Bonneville Counties, Idaho, 360 I.C.C. 91 (1979).

By issuing this notice, the Board is instituting an exemption proceeding pursuant to 49 U.S.C. 10502(b). A final decision will be issued by March 26, 2021.

Any offer of financial assistance (OFA) under 49 CFR 1152.27(b)(2) will be due no later than 120 days after the filing of the petition for exemption, or 10 days after service of a decision granting the petition for exemption, whichever occurs sooner. Persons interested in submitting an OFA must first file a formal expression of intent to file an offer by January 7, 2021, indicating the type of financial assistance they wish to provide (i.e., subsidy or purchase) and demonstrating that they are preliminarily financially responsible. See 49 CFR 1152.27(c)(1)(i).

Following abandonment, the Line may be suitable for other public use, including interim trail use. Any request for a public use condition under 49 CFR 1152.28 or for interim trail use/rail banking under 49 CFR 1152.29 will be due no later than January 19, 2021.²

² CAC states that, because it plans to sell the Line to DRPT, it is unwilling to negotiate for interim trail use. (Pet. 8.) Nevertheless, filing fees for OFAs and trail use requests can be found at 49 CFR 1002.2(f)(25) and (27), respectively.

All pleadings, referring to Docket No. AB 1266 (Sub-No. 1X), should be filed with the Surface Transportation Board via e-filing on the Board's website. In addition, a copy of each pleading must be served on CAC's representative, Eric M. Hocky, Clark Hill, PLC, Two Commerce Square, 2001 Market St., Suite 2620, Philadelphia, PA 19103. Replies to the petition are due on or before January 19, 2021.

Persons seeking further information concerning abandonment procedures may contact the Board's Office of Public Assistance, Governmental Affairs, and Compliance at (202) 245-0238 or refer to the full abandonment regulations at 49 CFR part 1152. Questions concerning environmental issues may be directed to the Board's Office of Environmental Analysis (OEA) at (202) 245-0305. Assistance for the hearing impaired is available through the Federal Relay Service at (800) 877-8339.

An environmental assessment (EA) (or environmental impact statement (EIS), if necessary) prepared by OEA will be served upon all parties of record and upon any other agencies or persons who comment during its preparation. Other interested persons may contact OEA to obtain a copy of the EA (or EIS). EAs in abandonment proceedings normally will be made available within 60 days of the filing of the petition. The deadline for submission of comments on the EA generally will be within 30 days of its service.

Board decisions and notices are available at www.stb.gov.

Decided: December 21, 2020.
By the Board, Allison C. Davis, Director, Office of Proceedings.
Tammy Lowery,
Clearance Clerk.

[FR Doc. 2020-28629 Filed 12-23-20; 8:45 am]

BILLING CODE 4915-01-P